DEPARTMENT OF ENERGY

Federal Energy Regulatory Commission

[Project No. P-11162-136]

Wisconsin Power and Light Company; Notice of Application Accepted for Filing and Soliciting Comments, Motions To Intervene, and Protests

Take notice that the following hydroelectric application has been filed with the Commission and is available for public inspection:

a. Application Type: Non-Capacity Amendment of License.

b. Project No: P-11162-136.

c. Date Filed: February 14, 2020.

d. Applicant: Wisconsin Power and Light Company.

e. Name of Project: Prairie du Sac Hydroelectric Project.

f. Location: The project is located on the Wisconsin River in Sauk and Columbia counties, Wisconsin.

g. Filed Pursuant to: Federal Power Act, 16 U.S.C. 791a-825r.

h. Applicant Contact: Amanda Blank, Wisconsin Power and Light Company, S9270A Dam Rd Prairie du Sac, WI 53558, (608) 458-6316, amandablank@alliantenergy.com.

i. FERC Contact: Aneela Mousam, (202) 502-8357, aneela.mousam@ferc.gov.

j. Deadline for filing comments, motions to intervene, and protests: April 6, 2020.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-11162-136.

k. Description of Request: Wisconsin Power and Light Company requests Commission approval for an amendment to the license for the Prairie du Sac Hydroelectric Project. The project is currently undergoing maintenance activities, which are increasing the efficiency of the facility. During a recent internal compliance review, in preparation for maintenance activities, the licensee identified a discrepancy between the actual operating head and nameplate operating head due to drop in the tailwater elevation over the last 100 years. Therefore, the current authorized installed capacity of 27.3 MW needs to be amended to 31.4 MW, based on the actual operating head of 37.4 feet and calculated proposed capacity following turbine refurbishment. The turbines are being refurbished with in kind materials and will not change project operations.

l. Locations of the Application: A copy of the application is available for inspection and reproduction at the Commission's Public Reference Room, located at 888 First Street NE, Room 2A, Washington, DC 20426, or by calling (202) 502-8371. This filing may also be viewed on the Commission's website at http://www.ferc.gov using the “eLibrary” link. Enter the docket number excluding the last three digits (P-11162) in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 385.2010.

Dated: March 5, 2020.
Kimberly D. Bose,
Secretary.

[FR Doc. 2020-04955 Filed 3-10-20; 8:45 am]

BILLING CODE 6717-01-P